DEPARTMENT OF ENERGY

Western Area Power Administration

Notice of Intent To Prepare an Environmental Impact Statement for the San Luis Transmission Project, Alameda, Merced, San Joaquin and Stanislaus Counties, California (DOE/EIS-0496)

AGENCY: Western Area Power Administration, DOE.

ACTION: Notice of Intent to Prepare an Environmental Impact Statement and to Conduct Scoping Meetings; Notice of Floodplain and Wetlands Involvement.

SUMMARY: Western Area Power Administration (Western) is a power marketing administration within the U.S. Department of Energy. Western has a statutory responsibility to make the necessary arrangements to deliver federal power to federally authorized projects including the San Luis Unit (SLU), a part of the Central Valley Project (CVP). The U.S. Bureau of Reclamation (Reclamation) submitted a transmission request to Western to interconnect several key SLU facilities to Western's CVP transmission system. Reclamation requested Western to consider various transmission service arrangements so Reclamation can continue to economically deliver federal water when the current transmission service contract with the Pacific Gas and Electric Company (PG&E) expires. Western must respond to Reclamation's transmission request consistent with Western's Open Access Transmission Tariff and existing laws. The San Luis & Delta-Mendota Water Authority (Authority), a Reclamation contractor that operates and maintains a part of the SLU, has a direct interest in this requested transmission service between Western's Tracy Substation and several key pumping and generating facilities of the SLU.

Western determined an environmental impact statement (EIS) is the appropriate level of review under the National Environmental Policy Act (NEPA). Western will prepare the EIS in accordance with NEPA, the DOE NEPA Implementing Procedures, and the Council on Environmental Quality regulations for implementing NEPA. Western will be the lead federal agency for the NEPA EIS review process, and Reclamation will be a cooperating agency. Western intends to prepare a joint EIS/environmental impact report (EIR) for the proposed San Luis Transmission Project (SLTP) in coordination with the Authority. The Authority will be the lead agency for the California Environmental Quality Act (CEQA) EIR review process. Portions of the proposed action may affect floodplains and wetlands, so this Notice of Intent (NOI) also serves as a notice of proposed floodplain or wetland action in accordance with DOE floodplain and wetland environmental review requirements.

DATES: Western invites public comments on the scope of the SLTP EIS during a 60-day public scoping period beginning with publication of this notice and ending on January 21, 2014. See Public Participation in the SUPPLEMENTARY INFORMATION section for the public scoping meeting dates and locations.

ADDRESSES: Written comments on the scope of the EIS/EIR and requests to be added to the EIS/EIR distribution list may be submitted by any of the following methods:

• Electronic comments via the project Web site at www.sltpeis-eir.com.

• Email to: SLTPEIS-EIR@wapa.gov.

• U.S. Mail to: Mr. Donald Lash, NEPA Document Manager, Western Area Power Administration, 114 Parkshore Drive, Folsom, CA 95630.

FOR FURTHER INFORMATION CONTACT: For additional information or to have your name added to our mailing list, contact Mr. Donald Lash, NEPA Document Manager, Western Area Power Administration, 114 Parkshore Drive, Folsom, CA 95630, telephone (916) 353-4048, facsimile (916) 353-4772, email at SLTPEIS-EIR@wapa.gov.

For general information on the DOE NEPA process, contact Ms. Carol M. Borgstrom, Director, Office of NEPA Policy and Compliance (GC-54), U.S. Department of Energy, 1000 Independence Avenue SW., Washington, DC 20585, telephone (202) 586-4600, voicemail at (800) 472-2756, or email at askNEPA@hq.doe.gov.

For information related to Reclamation's participation, contact Mr. Russell Grimes, Chief, Environmental Compliance and Conservation, Bureau of Reclamation, Mid-Pacific Region, 2800 Cottage Way, Sacramento, CA 95818, telephone (916) 978-5051, email at rwgrimes@usbr.gov.

For information related to the Authority's participation and the CEQA process, contact Ms. Frances Mizuno, General Manager, San Luis & Delta-Mendota Water Authority, 15990 Kelso Road, Byron, CA 94514, telephone (209) 832-6200.

SUPPLEMENTARY INFORMATION:

1. Background

Western is a federal power marketing administration within the DOE that markets and delivers federal electric power (mostly hydroelectric power) to federal preference customers defined to include municipalities, rural electric cooperatives, public utilities, irrigation districts, federal and state agencies, and Native American tribes in 15 western and central states, including California. Western is responsible for making the necessary arrangements to deliver federal power to federally authorized projects.

Reclamation is the largest wholesaler of water in the country, supplying more than 31 million people, and providing one out of five Western farmers (140,000) with irrigation water for 10 million acres of farmland. Reclamation is also the second largest producer of hydroelectric power in the western United States with 53 power plants that provide more than 40 billion kilowatt hours annually and generate nearly a billion dollars in power revenues. Reclamation's mission is to assist in meeting the increasing water demands of the West while protecting the environment and the public's investment in these structures. Reclamation emphasizes fulfilling its water delivery obligations, water conservation, water recycling, and reuse goals; developing partnerships with customers, states, and Native American tribes; and finding ways to address the competing needs for limited water resources.

The Authority is a California joint powers agency, comprised of water agencies representing approximately 28 federal and exchange water service contractors within the western San Joaquin Valley, San Benito and Santa Clara counties. One of the primary purposes of establishing the Authority was to assume the operation and maintenance responsibilities of certain Reclamation CVP facilities, and to do so at an optimum level and at a lower cost than Reclamation. The Authority also has the mission of pursuing additional reliable water supply for its member districts and delivering the water with a reliable system in a cost efficient manner.

In 1960, Congress authorized construction of the SLU as part of the CVP and also as part of the State of California Water Project. Reclamation owns the SLU and the State of California, Department of Water Resources operates the Gianelli Pump/Generation and the Dos Amigos Pumping Plant portion of the SLU under contract with Reclamation for use by both agencies. Some features are joint-use facilities of the federal and the state governments. The principal purpose of the federal portion of the SLU facilities is to furnish approximately 1.25 million acre-feet of water as a supplemental irrigation supply to some 600,000 acres located in the western portion of Fresno, Kings, and Merced counties. Reclamation is the federal agency responsible for executing and managing water contracts with state water authority agencies. Since 1965, PG&E has provided transmission service between the Tracy Substation and the SLU over PG&E's transmission lines. The PG&E contract expires on March 31, 2016. PG&E has stated it will not renew the existing contract under the same terms and conditions; however, PG&E has indicated service is available from the California Independent System Operator (CAISO). Such service is expected to increase Reclamation's costs the first year by at least $8,000,000. In anticipation of PG&E's termination of the contract, Reclamation submitted a transmission service request to Western. Reclamation requested Western to consider various transmission service arrangements so Reclamation can continue to economically deliver federal water when the PG&E contract expires.

2. Purpose and Need for Agency Action

Western must respond to Reclamation's request for transmission service consistent with Western's Open Access Transmission Tariff and existing laws. Reclamation must evaluate options to economically pump, store, convey, and deliver federal water through the SLU. The Authority must continue to deliver water with a reliable system in a cost efficient manner.

3. Proposed Action and Alternatives

Western proposes at a minimum to construct, own, operate, and maintain a new 230-kilovolt (kV) transmission line about 62 miles in length between Western's Tracy Substation and Western's San Luis Substation and a new 70-kV transmission line about 5 miles in length between the San Luis and O'Neill Substations. Western also will consider other transmission construction options including: A new 500-kV transmission line about 62 miles in length operated at 230-kV between Western's Tracy and San Luis Substations; a new 500-kV transmission line operated at 500-kV about 62 miles in length between the Tracy Substation and PG&E's Los Banos Substation; and a new 230-kV transmission line about 18 miles in length between San Luis Substation and Dos Amigos Substation. Western proposes to parallel existing transmission facilities whenever practicable.

Additional components of the proposed project would include constructing new 230-kV breaker terminal bays at Western's Tracy 230-kV Substation or new 500-kV breaker terminal bays at the Tracy 500-kV Substation; new 230-kV breaker terminal bays at Western's San Luis 230-kV Substation or new 500-kV breaker terminal bays at PG&E's Los Banos Substation. Western also may build new 230-kV breaker terminal bays at Western's Dos Amigos 230-kV Substation and a new 230/70-kV transformer bank and interconnection facilities at San Luis Substation.

The proposed project would include the following facilities and improvements:

• Right-of-way easements for the transmission lines with a typical width of about 125 to 175 feet for 230-kV lines and 200 to 250 feet for the 500-kV line.

• Tubular or lattice steel structures used to support the transmission lines. For the 230-kV line, structures typically would be between 100 and 200 feet tall depending on site-specific conditions while a few taller structures may be required in some locations to address engineering constraints. The 500-kV structures would be larger.

• Access roads, including improvements to existing roads, new overland access, and new unpaved temporary roads to access the proposed project facilities and work areas during construction and operation phases.

• Ancillary facilities, such as communications facilities (e.g., overhead fiber optic ground wires, regeneration facilities) for access control and protection.

Western will evaluate other potential alternatives, including obtaining transmission service from a local public utility or private agency, such as PG&E or the CAISO.

Western will consider a no action alternative. Under the no action/no project alternative, Western will continue to receive transmission service for the SLU under contract with PG&E. Under NEPA, the no action/no project alternative would serve as a baseline against which to measure the environmental effects of the proposed action alternatives. For purposes of impact analysis under NEPA, the environmental baseline consists of the existing physical conditions in the vicinity of the project at the time of issuance of this NOI. Other alternatives may be identified through the EIS scoping process.

4. Notice of Floodplain or Wetlands Involvement

Floodplains and wetlands may be in the project area. Since the proposal may involve action in floodplains or wetlands, Western is providing this notice of proposed floodplain or wetland action. The EIS will include an assessment of impacts to floodplains and wetlands. If needed, Western would prepare a floodplain statement of findings following DOE regulations for compliance with floodplains and wetlands environmental review requirements.

5. Preliminary Identification of Environmental Issues

Western proposes to analyze potential short-term environmental impacts, such as those from construction, and potential long-term environmental impacts of operating and maintaining the transmission line. DOE's guidance for the preparation of an EIS recommends the use of a sliding-scale approach when evaluating environmental impacts. This approach would focus the analysis and discussion of impacts on significant environmental issues in proportion to the level of the potential impacts. Western identified the following preliminary list of impact areas for evaluation in the EIS:

• Land Use, Recreation, and Visual Resources

• Water Use and Water Quality

• Surface Water Features including Rivers, Floodplains, and Wetlands

• Fish, Wildlife, and Vegetation, including Critical Habitat

• Socioeconomics

• Environmental Justice

• Historic and Cultural Resources

• Geology, Soil, and Mineral Resources

• Human Health and Electric and Magnetic Fields

• Construction-Related Impacts, including Access, Traffic, and Noise

This list is not intended to be all-inclusive or to imply a predetermination of impacts. Western invites interested stakeholders to suggest specific issues, including possible mitigation measures, within these general categories, or other categories not included above, to be considered in the EIS.

6. Public Participation

The purpose of the scoping process is to identify alternatives and potential environmental impacts that Western should analyze in the EIS. Western will hold two public scoping meetings at the following dates, locations, and times to provide the public with an opportunity to present comments, ask questions, and discuss the scope of the San Luis Transmission Project EIS/EIR with Western, Reclamation, and the Authority.

• Wednesday, January 8, 2014, 5:00 p.m.-8:00 p.m. at Tracy Transit Center, 50 East Sixth Street, Tracy, CA 95376.

• Thursday, January 9, 2014, 5:00 p.m.-8:00 p.m. at Hotel Mission De Oro, 13070 South Highway 33, Santa Nella, CA 95322.

Western also will announce the public scoping meetings in local news media and by posting on the project environmental Web site at www.sltpeis-eir.com and on the DOE NEPA Web site at http://energy.gov/nepa/Public-comment-opportunities at least 15 days before the meeting.

The scoping meetings will be conducted as informal open house meetings to facilitate discussions between project officials and the public, and to allow interested people to attend as their schedules allow. The public will have the opportunity to view maps and project information and present comments on the scope of the SLTP EIS. Representatives from Western, Reclamation, and the Authority will be available to answer questions and provide additional information to meeting attendees.

In addition to providing comments at the public scoping meetings, stakeholders may submit written comments as described in the ADDRESSES section. Western will consider all comments postmarked or received during the public scoping period identified in the DATES section.

Western will coordinate with appropriate federal, state, and local agencies, and potentially affected Native American tribes during the preparation of the EIS/EIR. Agencies with legal jurisdiction or special expertise are invited to participate as cooperating agencies in preparation of the EIS, as defined in 40 CFR 1501.6. Designated cooperating agencies have responsibilities to support the NEPA process, as specified in 40 CFR 1501.6(b). Western will contact tribes and inform them of the planned EIS. Government-to-government consultations will be conducted in accordance with Executive Order 13175, Consultation and Coordination with Indian Tribal Governments (65 FR 67249); the President's memorandum of April 29, 1994, Government-to-Government Relations with Native American Tribal Governments (59 FR 22951); DOE-specific guidance on tribal interactions; and applicable natural and cultural resources laws and regulations.

Western expects to publish the draft EIS by the end of 2014. The U.S. Environmental Protection Agency will publish a Notice of Availability of the Draft EIS in the Federal Register, which will begin a minimum 45-day public comment period. Western will announce how to comment on the Draft EIS and will hold at least one public hearing during the comment period. People who would like to receive a copy of the Draft EIS should submit a request as provided in the ADDRESSES section. For those requesting to be added to the distribution list, you are encouraged to download the EIS and other documents from the above Web site; however, if you prefer to be mailed a copy, please specify the format of the EIS that you would like to receive (CD or printed) and a preference for either the complete EIS or the Summary only.

Western will maintain information about the process including documents, meeting information, and important dates on the project Web site given above. The EIS and other project information will be available for download from the project Web site. Please visit the project Web site for current information.

Dated: November 7, 2013.
Mark A. Gabriel,
Administrator.

[FR Doc. 2013-28043 Filed 11-21-13; 8:45 am]

BILLING CODE 6450-01-P